DEPARTMENT OF LABOR

Mine Safety and Health Administration

Proposed Information Collection Request Submitted for Public Comment and Recommendations; Hazard Communication

ACTION: Notice.

SUMMARY: The Department of Labor, as part of its continuing effort to reduce paperwork and respondent burden conducts a preclearance consultation program to provide the general public and Federal agencies with an opportunity to comment on proposed and/or containing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

DATES: Submit comments on or before July 5, 2005.

ADDRESSES: Send comments to U.S. Department of Labor, Mine Safety and Health Administration, John Rowlett, Director, Management Services Division, 1100 Wilson Boulevard, Room 2134, Arlington, VA 22209-3939. Commenters are encouraged to send their comments on a computer disk, or via Internet e-mail to Rowlett.John@dol.gov, along with an original printed copy. Mr. Rowlett can be reached at (202) 693-9827 (voice), or (202) 693-9801 (facsimile).

FOR FURTHER INFORMATION CONTACT: Contact the employee listed in the ADDRESSES section of this notice.

SUPPLEMENTARY INFORMATION:

I. Background

Section 101(a)(7) of the Mine Act requires, in part, that mandatory standards “prescribe the use of labels or other appropriate forms of warning as are necessary to insure that miners are apprised of all hazards to which they are exposed, relevant symptoms and appropriate emergency treatment, and proper conditions and precautions for safe use or exposure.” MSHA collected evidence from the National Institute for Occupational Safety and Health's (NIOSH) Occupational Health Survey of Mining and other sources indicating that there is chemical exposure occurring in every type of mine, although every miner may not be exposed. We are concerned that miners being exposed to chemicals may not know the hazards of those chemicals or the appropriate precautions to prevent injury or illness caused by exposure to a hazardous chemical.

II. Desired Focus of Comments

Currently, the Mine Safety and Health Administration (MSHA) is soliciting comments concerning the proposed extension of the information collection requirement related to Hazard Communication (HazCom). MSHA is particularly interested in comments that:

• Evaluate whether the proposed collection of information is necessary for the proper performance of MSHA's functions, including whether the information has practical utility;

• Evaluate the accuracy of MSHA's estimate of the burden of the proposed collection of information, including the validity of the methodology and assumptions used;

• Suggest methods to enhance the quality, utility, and clarity of the information to be collected; and

• Address the use of appropriate automated, electronic, mechanical, or other technological collection techniques or other forms of information technology (e.g., permitting electronic submissions of responses), to minimize the burden of the collection of information on those who are to respond.

A copy of the proposed information collection request can be obtained by contacting the employee listed in the ADDRESSES section of this notice or viewed on the Internet by accessing the MSHA Home page (http://www.msha.gov) and then choosing “Statutory and Regulatory Information” and “Federal Register Documents.”

III. Current Actions

The HazCom standard involves third-party information sharing. It requires mine operators and/or contractors to assess the hazards of chemicals they produce or use and provide information to their miners concerning the chemicals' hazards. The mine operators and/or contractors must develop a written hazard communication program that describes how they will inform miners of chemical hazards and safe handling procedures through miner training, labeling containers of hazardous chemicals, and providing miners access to material safety data sheets (MSDSs). The purpose of the information sharing is to provide miners with the right to know the hazards and identities of the chemicals they are exposed to while working, as well as the measures they can take to protect themselves from these hazards. Through HazCom mine operators and/or contractors also have the necessary information regarding the hazards of chemicals present at their mines, so that work methods are improved or instituted to minimize exposure to these chemicals. HazCom provides miners with access to this information, so that they can take action to protect themselves.

Type of Review: Extension.

Agency: Mine Safety and Health Administration.

Title: Hazard Communication.

OMB Number: 1219-0133.

Recordkeeping: 3 years.

Frequency: On Occasion.

Affected Public: Business or other for profit.

Cite/Reference/Form/etc: 30 CFR part 47.

Total Respondents: 21,031.

Total Responses: 845,370.

Average Time per Response: 15 minutes.

Estimated Total Burden Hours: 203,438.

Total Burden Cost (capital/startup): $0.

Total Burden Cost (operating/maintaining): $496,166.

Comments submitted in response to this notice will be summarized and/or included in the request for Office of Management and Budget approval of the information collection request; they will also become a matter of public record.

Dated at Arlington, Virginia, this 26th day of April, 2005.
David L. Meyer,
Director, Office of Administration and Management.

[FR Doc. 05-8843 Filed 5-3-05; 8:45 am]

BILLING CODE 4510-43-P